DEPARTMENT OF DEFENSE

Department of The Army; Corps of Engineers

Intent To Prepare a Draft Environmental Impact Statement for a Proposed Dredged Material Management Plan for Cleveland Harbor, OH

AGENCY: Department of the Army, U.S. Army Corps of Engineers, DoD.

ACTION: Notice of intent.

SUMMARY: Pursuant to Section 102(2)(c) of the National Environmental Policy Act (NEPA) of 1969 as implemented by the Council on Environmental Quality regulations (40 CFR Parts 1500-1508) and Public Law 102-484 Section 2834, as amended by Public Law 104-106 Section 2867, the Department of the Army hereby gives notice of intent to prepare a Draft Environmental Impact Statement (EIS) for the subject Dredged Material Management Plan (DMMP). The Buffalo District of the U.S. Army Corps of Engineers will be the lead agency in preparing the EIS.

The EIS will consider Federal actions associated with the development of a DMMP for the Federal harbor in the city of Cleveland, Cuyahoga County, OH. The DMMP is a study conducted to develop a long-term (20-year) strategy for providing viable dredged material placement alternatives that would meet the needs of maintaining the Federal channels at Cleveland Harbor. The overall goal of the DMMP is to develop a plan to maintain channels necessary for commercial navigation within Cleveland Harbor and to conduct dredged material placement in the most economically and environmentally sound manner, and maximize the use of dredged material as a beneficial resource.

FOR FURTHER INFORMATION CONTACT: Mr. Michael Asquith, Project Manager, Buffalo District, Corps of Engineers, CELRB-PM-PM, 1776 Niagara Street, Buffalo, NY 14207-3199, telephone (716) 879-4352, or Ms. Patti McKenna, NEPA Coordinator, Buffalo District, Corps of Engineers, 1776 Niagara Street, Buffalo, NY 14207-3199, Telephone: (716) 879-4367.

SUPPLEMENTARY INFORMATION: Cleveland Harbor is located on Lake Erie at the mouth of the Cuyahoga River. Included in the study area are the Outer Harbor and Cuyahoga River Channels. The harbor is protected by a breakwater system: an east breakwater (20,970 feet long), a west breakwater (6,048 feet long), and the east and west arrowhead breakwaters (each measuring 1,250 feet). Cleveland Harbor is dredged twice each year. The average dredging volume per year from 1998 through 2005 is 305,000 cubic yards, which includes Federal and non-Federal dredging activities. In accordance with joint U.S. Environmental Protection Agency (USEPA) and the U.S. Army Corps of Engineers (USACE) protocols contained in the Great Lakes Dredged Material Testing and Evaluating Manual (1998), all sediment dredged from Cleveland Harbor and Cuyahoga River Channels is unsuitable for open lake and nearshore placement. All dredged material is currently placed in a Confined Disposal Facility (CDF). Since the 1960s, five CDFs have been constructed at Cleveland Harbor (9, 10B, 12, 13, and 14). The current operational CDF (10B) is nearing design capacity. Planning efforts are underway for interim placement solutions at CDF 10B. However, to address long-term dredging and dredged material management needs, additional placement sites for dredged material disposal must also be made available.

Proposed Action: In accordance with U.S. Army Corps of Engineers Regulation 1105-2-100, a DMMP is prepared for a Federal navigation project to ensure that maintenance dredging activities are performed in an environmentally acceptable manner, use sound engineering techniques, are economically warranted, and that sufficient confined disposal facilities are available for at least the next 20 years. The proposed DMMP will focus on the management of dredged material from maintaining Federal navigation channels at Cleveland Harbor, and will take into consideration non-Federal dredging projects permitted by the Buffalo District. The approved DMMP will be consistent with sound engineering practices and meet all Federal environmental compliance standards, including those established by the Clean Water Act. In addition, the DMMP will be consistent with State plans such as the Ohio Coastal Zone Management Program.

Reasonable Alternatives: The alternatives for the DMMP will consist of an array of disposal and beneficial use options. It is Corps of Engineers planning policy to consider all practicable and relevant alternative management measures. Options for managing dredged material at Cleveland Harbor that are being considered include the following: (1) Open-lake Placement. To date, all sediment dredged from Cleveland Harbor and Cuyahoga River Channels is unsuitable for open lake placement; (2) Confined Disposal. Additional capacity would be created in one of the existing CDFs through adaptive management and/or the construction of internal dikes; (3) New Confined Disposal Facility. The construction of a new in-water CDF will also need to be evaluated. There are eight potential locations that are being assessed; (4) Beneficial Use. Dredged material would be transported to upland sites for use as cover or fill, with particular emphasis on the value of restoring or creating habitat; (5) Best Management Practices. Measures will be considered to reduce erosion and sedimentation within the watershed and consequently reduce harbor dredging needs; and (6) “No Action”. No Federal action would be taken to address dredging needs at Cleveland Harbor. The EIS will address measures, alternatives and impacts to the selected or preferred alternative(s).

Scoping Process: The Corps of Engineers invites affected Federal, State and local agencies, affected Native American tribes, and other interested organizations and individuals to participate in the development of the EIS. The Corps of Engineers anticipates conducting a public scoping meeting for this EIS in the summer of 2006. The exact date, time and location of this meeting has not yet been determined. This information will be publicized once the meeting arrangements have been made.

The Draft EIS is currently scheduled to be available for public review in June 2007. The Final EIS is currently scheduled to be available for public review in January 2008.

Brenda S. Bowen,
Army Federal Register Liaison Officer.

[FR Doc. 06-2603 Filed 3-16-06; 8:45 am]

BILLING CODE 3710-GP-M